EXPORT-IMPORT BANK OF THE UNITED STATES

Economic Impact Policy

This notice is to inform the public that the Export-Import Bank of the United States has received an application to support the export of approximately $2.3 billion in U.S. petrochemical equipment and services to expand petrochemical production at an existing facility in India. The financed amount associated with the U.S. export contract is expected to total approximately $2 billion.

The U.S. exports will enable the foreign buyer to increase its annual production of the following products: 550,000 metric tons of linear low density polyethylene (LLDPE); 400,000 metric tons of low density polyethylene (LDPE); 733,000 metric tons of monoethylene glycol (MEG); 1,800,000 metric tons of paraxylene (PX); and 152,000 metric tons of polypropylene (PP). Available information indicates the Indian petrochemical producer plans to sell its output as follows: the majority of LDPE will be consumed in India with the balance exported to China, Europe and Africa; about half of LLDPE production will be consumed in India with the remainder going to China, Europe and Africa; the entire MEG production will be consumed in India; the PX production will be exported to South and North East Asia; and the majority of the PP production will be consumed in India with the balance exported to China, Africa and Europe.

Interested parties may submit comments on this application by email to economic.impact@exim.gov or by mail to 811 Vermont Avenue NW., Room 432, Washington, DC 20571, within 14 days of the date this notice appears in the Federal Register.

Kathryn Hoff-Patrinos,
Deputy General Counsel.

[FR Doc. 2012-18489 Filed 7-27-12; 8:45 am]

BILLING CODE 6690-01-P